DEPARTMENT OF HOMELAND SECURITY

U.S. Immigration and Customs Enforcement

Agency Information Collection Activities: Notice of New Information Collection

ACTION: Correction to Notice of Information Collection Under Review; Form 70-005, ICE Secure Communities Stakeholder ID Assessment Questionnaire.

SUMMARY: The Department of Homeland Security, U.S. Immigration and Customs Enforcement (USICE), has submitted the following information collection request for review and clearance in accordance with the Paperwork Reduction Act of 1995. The information collection was previously published in the Federal Register on April 14, 2009 Vol. 74 No. 70 17205. This document contains corrections to certain portions of those notices that were published erroneously.

Correction

• In the Title section, the form number is corrected as follows: Form 70-008.

• In the Action section, the form number corrected as follows: Form 70-008.

• In the Overview of This Information Collection section, Item 3 is corrected as follows: Agency form number, if any, and the applicable component of the Department of Homeland Security sponsoring the collection: Form 70-008, U.S. Immigration and Customs Enforcement.

Dated: May 27, 2009.
Mary Ann Plumb,
Chief of Staff, Office of Asset Management, United States Immigration and Customs Enforcement, Department of Homeland Security.

[FR Doc. E9-12808 Filed 6-1-09; 8:45 am]

BILLING CODE 9111-28-P